DEPARTMENT OF ENERGY

Federal Energy Regulatory Commission

[Docket No. RP00-2-005]

Overthrust Pipeline Company; Notice of Compliance Filing

March 12, 2001.

Take notice that on March 2, 2001, Overthrust Pipeline Company (Overthrust) tendered for filing as part of its FERC Gas Tariff, the following tariff sheets, with an effective date of April 1, 2001:

Original Volume No. 1

Eighth Revised Sheet No. 4

Eighth Revised Sheet No. 70

First Revised Volume No. 1-A

Nineteenth Revised Sheet No. 6

Overthrust's states that the filing is made in compliance with Commission letter order issued July 13, 2000, in Docket No. RP00-2-000.

Overthrust states that by letter order issued July 13, 2000, the Commission approved the March 24, 2000, Settlement of its rate case in Docket No. RP00-2-000.

Overthrust states that Paragraph III.A.(3)(a) of the Settlement provided that effective April 1, 2001, Overthrust's rates would be reduced by 10% to a $2.1640/Dth reservation charge and a $0.0712/Dth interruptible rate. Further, Overthrust states that the tariff sheets tendered with its filing implement the 10% rate reduction. No other changes are proposed.

Overthrust states that a copy of this filing has been served upon Overthrust's customers and the Wyoming Public Service Commission.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.200(a)(1)(iii) and the instructions on the Commission's web site at http://www.ferc.fed.us/efi/doorbell.htm.

David P. Boergers,
Secretary.

[FR Doc. 01-6526 Filed 3-15-01; 8:45 am]

BILLING CODE 6717-01-M